DEPARTMENT OF ENERGY

Federal Energy Regulatory Commission

[Project No.: P-2237-017]

Georgia Power Company; Notice of Application Tendered for Filing With the Commission and Establishing Procedural Schedule for Licensing and Deadline for Submission of Final Amendments

March 13, 2007.

Take notice that the following hydroelectric application has been filed with the Commission and is available for public inspection.

a. Type of Application: New Major License.

b. Project No.: P-2237-017.

c. Date Filed: February 27, 2007.

d. Applicant: Georgia Power Company.

e. Name of Project: Morgan Falls Hydroelectric Project.

f. Location: The existing project is located in the metropolitan city of Atlanta area on the Chattahoochee River, at river mile 312.6, and about 36 miles downstream from the U.S. Corps of Engineers' Buford dam (Lake Sidney Lanier) in Cobb and Fulton Counties, Georgia. The project occupies about 14.4 acres of federal lands within the Chattahoochee River National Recreation Area managed by the National Park Service.

g. Filed Pursuant to: Federal Power Act 16 U.S.C. 791(a)-825(r).

h. Applicant Contact: Douglas E. Jones, Senior Vice-President, Southern Company Generation, 241 Ralph McGill Boulevard NE., Bin 10240, Atlanta, Georgia 30308-3374; Telephone (404) 506-7328; or George A. Martin, Project Manager, at (404) 506-1357 or e-mail at gamartin@southernco.com. Additional information on this project is available on the applicant's Web site: http://www.southerncompany.com/gapower/hydro/.

i. FERC Contact: Janet Hutzel, Telephone (202) 502-8675, or e-mail janet.hutzel@ferc.gov. Additional information on Federal Energy Regulatory Commission (FERC) hydroelectric projects is available on FERC's Web site: http://www.ferc.gov/industries/hydropower.asp.

j. This application is not ready for environmental analysis at this time.

k. Project Description: The existing project consists of the following: (1) A 1,031-foot-long, 56-foot-maximum height concrete gravity dam consisting of a 46-foot-long non-overflow westerly abutment; a 680-foot-long gated spillway with sixteen 40-foot-wide by 8-foot-tall Tainter gates; a 21-foot-long trash gate section containing one 8-foot-wide by 4-foot-tall trash gate; a 195-foot-long, 73-foot-high combined powerhouse and intake section integral with the dam containing seven horizontal double runner Francis turbines coupled to seven generating units with a total generating capacity of 16.8 megawatt; and an 89-foot-long non-overflow easterly abutment; (2) a 684-acre reservoir (Bull Sluice Lake) at normal full pool elevation of 866.0 feet using plant datum,¹ with 2,239 acre-feet of usable storage; and (3) appurtenant facilities. The average annual generation at the project is about 15,221 megawatt-hours. The applicant has no plans to modify the existing project facilities or the current modified run-of-river mode of operation.

¹ Plant datum = mean sea level (MSL) + 12.39 ft.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

m. You may also register online at http://www.ferc.gov/esubscribenow.htm to be notified via e-mail of new filings and issuances related to this or other pending projects. For assistance, contact FERC Online Support.

n. Procedural Schedule:

The application will be processed according to the following Hydro Licensing Schedule. Revisions to the schedule may be made as appropriate.

² This schedule assumes Georgia Power Company's license application conforms to the Commission's regulations and has no deficiencies under § 5.20.

>
Milestone | Target Date
Notice of Acceptance/ Notice of Ready for Environmental Analysis | May 13, 2007. ²
Filing of interventions, recommendations, preliminary terms and conditions, and fishway prescriptions | July 12, 2007.
Reply comments due | August 26, 2007.
FERC issues single EA (without a draft) | November 9, 2007.
Comments on EA due | December 9, 2007.
Filing of modified terms and conditions | February 8, 2008.
Ready for Commission decision | May 8, 2008.

o. Final amendments to the application must be filed with the Commission no later than 30 days from the issuance date of the notice of ready for environmental analysis.

² This schedule assumes Georgia Power Company's license application conforms to the Commission's regulations and has no deficiencies under § 5.20.

Philis J. Posey,
Acting Secretary.

[FR Doc. E7-4993 Filed 3-16-07; 8:45 am]

BILLING CODE 6717-01-P